ENVIRONMENTAL PROTECTION AGENCY

[EPA-R05-OAR-2009-0928, EPA-R05-OAR-2010-0046; FRL-9116-6]

Adequacy Status of the Cincinnati, Ohio/Indiana Submitted 8-Hour Ozone Redesignation and Maintenance Plans for Transportation Conformity Purposes

AGENCY: Environmental Protection Agency (EPA).

ACTION: Notice of adequacy.

SUMMARY: In this notice, EPA is notifying the public that we have found that the motor vehicle emissions budgets (MVEBs) for volatile organic compounds (VOCs) and oxides of nitrogen (NOx) as precursors to ozone in the Ohio and Indiana portions of the Cincinnati-Hamilton, OH/KY/IN ozone nonattainment area are adequate for use in transportation conformity determinations. Ohio submitted a redesignation request and maintenance plan for Cincinnati, Ohio on December 14, 2009. The MVEBs in the submittal include emissions for the Ohio portion and also the Indiana portion of the Cincinnati area. Indiana submitted a redesignation request and maintenance plan for Lawrenceburg Township in Dearborn County, Indiana, which is part of the Cincinnati 8-hour ozone nonattainment area, on January 21, 2010. Indiana and Ohio submitted identical MVEBs for the combined Ohio and Indiana portions of the Cincinnati area.

As a result of our finding, the Cincinnati, Ohio area must use the MVEBs from the submitted ozone maintenance plan for future transportation conformity determinations.

DATES: This finding is effective March 11, 2010.

FOR FURTHER INFORMATION CONTACT: Patricia Morris, Environmental Scientist, Criteria Pollutant Section (AR-18J), Air Programs Branch, Air and Radiation Division, United States Environmental Protection Agency, Region 5, 77 West Jackson Boulevard, Chicago, Illinois 60604, (312) 353-8656, morris.patricia@epa.gov.

SUPPLEMENTARY INFORMATION: Throughout this document, whenever “we”, “us” or “our” is used, we mean EPA.

Background

Today's notice is simply an announcement of a finding that we have already made. On January 14, 2010, EPA Region 5 sent a letter to the Ohio Environmental Protection Agency and also to the Indiana Department of Environmental Management stating that the 2015 and 2020 MVEBs for the both the Ohio portion and the Indiana portion of the Cincinnati, Ohio 8-hour ozone area are adequate. The letters note that Kentucky will submit separate budgets for the Kentucky portion of the Cincinnati area. Receipt of these MVEBs was announced on EPA's transportation conformity website, and no comments were submitted. The finding is available at EPA's conformity Web site: http://www.epa.gov/otaq/stateresources/transconf/adequacy.htm.

The adequate 2015 and 2020 MVEBs, in tons per day (tpd), for VOCs and NOx for the Ohio and Indiana portions of the Cincinnati, Ohio area are as follows:

Ohio and Indiana portions of Cincinnati, Ohio
| VOCs (tpd) | NOx (tpd)
2015 | 31.73 | 49.00
2020 | 28.82 | 34.39

Transportation conformity is required by section 176(c) of the Clean Air Act. EPA's conformity rule requires that transportation plans, programs, and projects conform to state air quality implementation plans and establishes the criteria and procedures for determining whether or not they do conform. Conformity to a State Implementation Plan (SIP) means that transportation activities will not produce new air quality violations, worsen existing violations, or delay timely attainment of the national ambient air quality standards.

The criteria by which we determine whether a SIP's MVEBs are adequate for transportation conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

The finding and the response to comments are available at EPA's transportation conformity Web site: http://www.epa.gov/otaq/stateresources/transconf/adequacy.htm.

Authority: 42 U.S.C. 7401-7671 q.

Dated: February 3, 2010.
Walter W. Kovalick, Jr.,
Acting Regional Administrator, Region 5.

[FR Doc. 2010-3678 Filed 2-23-10; 8:45 am]

BILLING CODE 6560-50-P